DEPARTMENT OF AGRICULTURE

Agricultural Marketing Service

[Doc. No AMS-FGIS-20-0068]

Opportunity for Designation in the Urbana, Illinois; Sandusky, Michigan; Davenport, Iowa; Enid, Oklahoma; Keokuk, Iowa; Marshall, Michigan; Council Bluffs, Iowa; Fremont, Nebraska; Annapolis, Maryland; Amarillo, Texas; Cairo, Illinois; Baton Rouge, Louisiana; Raleigh, North Carolina; Belmond, Iowa; and Ogden, Utah, Areas; Request for Comments on the Official Agencies Servicing This Area

AGENCY: Agricultural Marketing Service, USDA.

ACTION: Notice.

SUMMARY: The designations of the official agencies listed in SUPPLEMENTARY INFORMATION below will end on the prescribed dates. We are asking persons or governmental agencies interested in providing official services in the areas presently served by these agencies to submit an application for designation. The Agricultural Marketing Service (AMS) encourages submissions from traditionally underrepresented individuals, organizations, and businesses to reflect the diversity of this industry. AMS encourages submissions from qualified applicants, regardless of race, color, age, sex, sexual orientation, gender identity, national origin, religion, disability status, protected veteran status, or any other characteristic protected by law. In addition, we are asking for comments on the quality of services provided by the following designated agencies: Champaign-Danville Grain Inspection Departments, Inc. (Champaign); Detroit Grain Inspection Service, Inc. (Detroit); Eastern Iowa Grain Inspection and Weighing Service, Inc. (Eastern Iowa); Enid Grain Inspection Company, Inc. (Enid); Keokuk Grain Inspection Service (Keokuk); Michigan Grain Inspection Services, Inc. (Michigan); Omaha Grain Inspection Service, Inc. (Omaha); Fremont Grain Inspection Department, Inc. (Fremont); Maryland Department of Agriculture (Maryland); Amarillo Grain Exchange, Inc. (Amarillo); Cairo Grain Inspection Agency, Inc. (Cairo); Louisiana Department of Agriculture and Forestry (Louisiana); North Carolina Department of Agriculture (North Carolina); D.R. Schaal Agency, Inc. (Schaal); and Utah Department of Agriculture and Food (Utah).

DATES: Applications and comments must be received by March 24, 2021.

ADDRESSES: Submit applications and comments concerning this Notice using any of the following methods:

• To apply for Designation: Use FGISonline (https://fgisonline.ams.usda.gov) and then click on the Delegations/Designations and Export Registrations (DDR) link. You will need to obtain an FGISonline customer number and USDA eAuthentication username and password prior to applying.

• To submit Comments: Go to Regulations.gov (http://www.regulations.gov). Instructions for submitting and reading comments are detailed on the site. Interested persons are invited to submit written comments concerning this notice. All comments must be submitted through the Federal e-rulemaking portal at http://www.regulations.gov and should reference the document number and the date and page number of this issue of the Federal Register. All comments submitted in response to this notice will be included in the record and will be made available to the public. Please be advised that the identity of the individuals or entities submitting comments will be made public on the internet at the address provided above.

Read Applications and Comments: All comments will be available for public inspection online at http://www.regulations.gov. If you would like to view the applications, please contact us at FGISQACD@usda.gov (7 CFR 1.27(c)).

FOR FURTHER INFORMATION CONTACT: Joshua Diaz-Lopez, (816) 266-5240, or FGISQACD@usda.gov.

SUPPLEMENTARY INFORMATION: The designations of the official agencies listed below will end on the prescribed dates:

Official agency | Headquarters location and telephone | Designation end
Champaign-Danville Grain Inspection Department | Urbana, IL, 217-344-9306 | 3/31/2021
Detroit Grain Inspection Service, Inc | Sandusky, MI, 810-404-3786 | 3/31/2021
Eastern Iowa Grain Inspection Company, Inc | Davenport, IA, 563-322-7149 | 3/31/2021
Enid Grain Inspection Company | Enid, OK, 580-233-1122 | 3/31/2021
Keokuk Grain Inspection Service | Keokuk, IA, 319-524-4695 | 3/31/2021
Michigan Grain Inspection Services, Inc | Marshall, MI, 269-781-2711 | 3/31/2021
Omaha Grain Inspection Service, Inc | Council Bluffs, IA, 712-256-2590 | 3/31/2021
Fremont Grain Inspection Department, Inc | Fremont, NE, 402-721-1270 | 6/30/2021
Maryland Department of Agriculture | Annapolis, MD, 410-841-5769 | 6/30/2021
Amarillo Grain Exchange, Inc | Amarillo, TX, 806-372-8511 | 9/30/2021
Cairo Grain Inspection Agency, Inc | Cairo, IL, 618-734-0689 | 9/30/2021
Louisiana Department of Agriculture and Forestry | Baton Rouge, LA, 318-428-0116 | 9/30/2021
North Carolina Department of Agriculture | Raleigh, NC, 919-733-4491 | 9/30/2021
D.R. Schaal Agency, Inc | Belmond, IA, 641-444-3122 | 9/30/2021
Utah Department of Agriculture and Food | Ogden, UT, 801-392-2292 | 9/30/2021

Section 7(f) of the United States Grain Standards Act (USGSA) authorizes the Secretary to designate a qualified applicant to provide official services in a specified area after determining that the applicant is better able than any other applicant to provide such official services (7 U.S.C. 79(f)). Under section 7(g) of the USGSA, designations of official agencies are effective for no longer than five years, unless terminated by the Secretary, and may be renewed according to the criteria and procedures prescribed in section 7(f) of the USGSA.

Areas Open for Designation

Champaign, Detroit, Eastern Iowa, Enid, Keokuk, Michigan and Omaha: Areas of designation include Wisconsin and parts of Michigan, Illinois, Iowa, Indiana, Oklahoma, Texas, Ohio and Nebraska. Please see the March 29, 2016, issue of the Federal Register (81 FR 17428-17431) for descriptions of the areas open for designation.

Maryland and Fremont: Areas of designation include Maryland and parts of Iowa and Nebraska. Please see the March 29, 2016, issue of the Federal Register (81 FR 17431-17432) for descriptions of the areas open for designation.

Amarillo, Cairo, Louisiana, and Utah: Areas of designation include Louisiana; Utah; and parts of Texas, Oklahoma, Illinois, Kentucky, and Tennessee. Please see the July 1, 2015, issue of the Federal Register (80 FR 37581 (only with respect to Utah)) and the August 24, 2016, issue of the Federal Register (81 FR 57882-57885) for descriptions of the areas open for designation.

North Carolina and Schaal: Areas of designation include New Jersey, South Carolina, New York, Georgia, North Carolina, and parts of Iowa and Minnesota. Please see the June 3, 2020, issue of the Federal Register (85 FR 34160-34161) for descriptions of the areas open for designation.

Opportunity for Designation

Interested persons or governmental agencies may apply for designation to provide official services in the geographic areas of the official agencies specified above under the provisions of section 7(f) of the USGSA and 7 CFR 800.196. Designation in the specified geographic areas for Champaign, Detroit, Eastern Iowa, Enid, Keokuk, Michigan and Omaha begins April 1, 2021. Designation in the specified geographic areas for Fremont and Maryland begins July 1, 2021. Designation in the specified geographic areas for Amarillo, Cairo, Louisiana, North Carolina, Schaal, and Utah begins October 1, 2021. To apply for designation or to request more information on the geographic areas serviced by these official agencies, contact Joshua Diaz-Lopez at the address listed above.

Request for Comments

We are publishing this Notice to provide interested persons the opportunity to comment on the quality of services provided by the Champaign, Detroit, Eastern Iowa, Enid, Keokuk, Michigan, Omaha, Fremont, Maryland, Amarillo, Cairo, Louisiana, North Carolina, Schaal, and Utah official agencies. In the designation process, we are particularly interested in receiving comments citing reasons and pertinent data supporting or objecting to the designation of the applicant(s). Such comments should be submitted through the Federal e-rulemaking portal at http://www.regulations.gov.

We consider applications, comments, and other available information when determining which applicants will be designated.

Authority: 7 U.S.C. 71-87k.

Bruce Summers,
Administrator, Agricultural Marketing Service.

[FR Doc. 2021-03468 Filed 2-19-21; 8:45 am]

BILLING CODE P